DEPARTMENT OF HOMELAND SECURITY

Coast Guard

[Docket No. USCG-2018-0787]

National Offshore Safety Advisory Committee

AGENCY: U.S. Coast Guard, Department of Homeland Security.

ACTION: Notice of Federal Advisory Committee charter renewal.

SUMMARY: Under the Federal Advisory Committee Act, the Secretary of the Department of Homeland Security renewed the charter for the National Offshore Safety Advisory Committee on November 9, 2018. The charter will expire on November 9, 2020. The National Offshore Safety Advisory Committee provides advice and recommendations to the Department of Homeland Security on matters relating to activities directly involved with or in support of the exploration of offshore mineral and energy resources insofar as they relate to matters within Coast Guard jurisdiction. A copy of the charter can be found at https://www.facadatabase.gov/FACA/apex/FACAPublicCommittee?id=a10t0000001gzmiAAA.

FOR FURTHER INFORMATION CONTACT: Commander Jose Perez, Designated Federal Officer of the National Offshore Safety Advisory Committee, Commandant (CG-OES-2), U.S. Coast Guard, 2703 Martin Luther King Jr. Avenue SE, Stop 7509, Washington, DC 20593-7509; telephone (202) 372-1410, fax (202) 372-8382 or email jose.a.perez3@uscg.mil, or Mr. Patrick Clark, telephone (202) 372-1358, fax (202) 372-8382 or email Patrick.w.clark@uscg.mil.

Alternate Designated Federal Officer of the National Offshore Safety Advisory Committee, Commandant (CG-OES-2), U.S. Coast Guard, 2703 Martin Luther King Jr. Avenue SE, Stop 7509, Washington, DC 20593-7509.

Jeffrey G. Lantz,
Director of Commercial Regulations and Standard.

[FR Doc. 2019-01424 Filed 2-6-19; 8:45 am]

BILLING CODE 9110-04-P